CONSUMER PRODUCT SAFETY COMMISSION

Announcement of Consumer Product Safety Commission's Participation in 2015 Healthy Aging Summit

AGENCY: Consumer Product Safety Commission.

ACTION: Notice

SUMMARY: The U.S. Consumer Product Safety Commission (“CPSC,” “Commission,” or “we”) is announcing its intent to participate in the 2015 Healthy Aging Summit (“Summit”), sponsored by the Department of Health and Human Services, Office of Disease Prevention and Health Promotion (“HHS/ODPHP”) and the American College of Preventative Medicine (“ACPM”). The Summit will specifically highlight the science of healthy aging and preventive services and identify policy gaps that can be pursued to improve the quality of life for older adults. CPSC's focus in the Summit will be to solicit information on better ways that the CPSC and other stakeholders, including state and local governments and non-governmental organizations, can protect the senior population from consumer products that pose risks. The Summit will be held at the Omni Shoreham Hotel in Washington, DC, on July 27-28, 2015. We invite interested parties to participate in or attend the Summit. Interested parties are invited to submit written comments to the CPSC related to the Summit. The comments submitted in writing can be in lieu of, or in addition to, participating in person at the Summit.

DATES: The Summit will be held from 7:30 a.m. to 6:30 p.m. on July 27, 2015, and from 7:00 a.m. to 5:00 p.m. on July 28, 2015. The CPSC session titled, “Consumer Product Safety Listening Session,” will take place on July 27, 2015, from 5:30 p.m. to 6:30 p.m. Individuals who wish to attend the Summit should register by July 13, 2015; on-site registration will be offered, but at a higher cost, on the day of the Summit. Any written comments should be submitted to the CPSC by July 27, 2015.

ADDRESSES: The Summit will be held at the Omni Shoreham Hotel, 2500 Calvert Street NW., Washington, DC 20008 on July 27-28, 2015. To attend the conference and provide oral comments during the CPSC Listening Session on July 27 from 5:30 p.m. to 6:30 p.m., you must register for the 2015 Healthy Aging Summit at www.2015healthyagingsummit.org. Time will be limited to three (3) minutes per commenter, subject to one hour time frame of the CPSC Listening Session. The ability to provide oral comments is on a first-come, first-served basis.

For any parties who wish to submit written comments, written submissions can be made to the CPSC in the following way:

Mail/Hand delivery/Courier to: Office of the Secretary, Consumer Product Safety Commission, Room 820, 4330 East West Highway, Bethesda, MD 20814; telephone (301) 504-7923; Email to: cpsc-os@cpsc.gov.

Instructions: All submissions received must include: the “Consumer Product Safety Commission” and title, “2015 Healthy Aging Summit.” All comments received may be posted without change, including any personal identifiers, contact information, or other personal information.

FOR FURTHER INFORMATION CONTACT: Patricia Adair, Directorate for Engineering Sciences, 5 Research Place, Rockville, MD 20850, telephone 301-987-2238, email seniorsummit@cpsc.gov.

SUPPLEMENTARY INFORMATION:

I. Background

In establishing and revising its priorities, the Commission takes into consideration the vulnerability of the population at risk including risks to children, the elderly, and the handicapped. There were an estimated 37,200 consumer product-related deaths in 2010. Almost 65 percent of these deaths were suffered by seniors (adults 65 and older), despite this group making up only 13 of the U.S. population. Seniors also have suffered an estimated 5 million injuries each year since 2008. The number, rate, and costs of serious injuries to seniors associated with consumer products rise every year and the size of the population of older adults in the United States is rising quickly as well. By 2030, older adults will comprise 20.6 percent of the U.S. population. By 2050, the senior population is expected to more than double, from 40 million in 2010, to more than 88 million.

In addition to the physical toll of injuries on the senior population, the societal costs are significant. CPSC estimates that the total societal costs of injuries related to, but not necessarily caused by, consumer products involving older adults, including pain and suffering costs, exceed $100 billion annually. See http://www.cpsc.gov/en/About-CPSC/Commissioners/Robert-Adler/Commissioner-Adler-Statements/Acting-Chairman-Robert-Adler-Introduces-Senior-Safety-Initiative/.

II. Topics for the Summit

In general, the Summit will focus on the science of healthy aging and preventive services and will identify policy gaps that can be addressed to improve the quality of life for older adults. The Summit will begin with a daily plenary session for all attendees. Concurrent sessions on a variety topics related to healthy aging will occur in the afternoon.

The full agenda can be found at the Summit Web site: www.2015HealthyAgingSummit.org.

CPSC's engagement in the Summit will focus on soliciting information relating to ways that CPSC and other stakeholders, including state and local governments and non-governmental organizations, can reduce the risk to the senior population from consumer products that pose risks. Areas of interest include, but are not limited to:

• Techniques or best practices for CPSC to provide messages to seniors and their caregivers;

• Programs or initiatives targeting senior safety;

• Strategies for improving safety in the home;

• Causes of injuries to seniors from consumer products;

• Human factors research needs about seniors;

• Fire safety and seniors; and

• Societal costs of injuries to seniors from consumer products.

A session specifically for participants to provide comments to CPSC titled, the “Consumer Product Safety Listening Session,” will be held on July 27, 2015, from 5:30 p.m. to 6:30 p.m. at the Summit. We invite you to share your comments at this session.

The Listening Session will open with a brief overview from CPSC on the topics of interest. The floor will then be open to pre-registered commenters. Each commenter will be limited to three (3) minutes.

CPSC would like to hear from you and is interested in comments and responses to the following questions related to the topics listed above:

1. What are the common safety issues and concerns when considering seniors and consumer product safety?

2. What consumer product(s) present(s) the greatest hazard(s) to the seniors? How can each hazard be mitigated?

3. What usage patterns for consumer products present special hazards to seniors?

4. What communications issues/opportunities exist for educating the senior population about hidden consumer product safety issues associated with aging?

5. What product safety design characteristics have been shown to be most helpful to seniors?

To provide oral comments during the CPSC Listening Session on July 27, 2015, from 5:30 p.m. to 6:30 p.m., you must register for the 2015 Healthy Aging Summit at: www.2015healthyagingsummit.org to attend the conference. Time will be limited to three (3) minutes per commenter, with the CPSC Listening Session limited to one hour. Commenters will be scheduled on a first-come, first-served basis. Written submissions can be made to the CPSC, as provided in the ADDRESSES portion of this notice.

Dated: May 20, 2015.
Todd A. Stevenson,
Secretary, Consumer Product Safety Commission.

[FR Doc. 2015-12589 Filed 5-22-15; 8:45 am]

BILLING CODE 6355-01-P